DEPARTMENT OF AGRICULTURE

Forest Service

Tongass Advisory Committee; Meetings

AGENCY: Forest Service, USDA.

ACTION: Notice of meetings.

SUMMARY: The Tongass Advisory Committee (Committee) will meet in Klawock, Alaska. The Committee is established consistent with the Federal Advisory Committee Act of 1972 (5 U.S.C. App. 2). The most up to date information concerning the Committee, including meeting times and agendas can be found by visiting the Committee's Web site at: http://www.fs.usda.gov/goto/R10/Tongass/TAC. The meeting is open to the public.

DATES: The meeting will be held on:

• October 8, 2014 from 8:30 a.m. to 12:30 p.m. (AKDT).

• October 9, 2014 from 1:00 p.m. to 5:00 p.m. (AKDT).

• October 10, 2014 from 8:30 a.m. to 2:00 p.m.

All meetings are subject to change and cancellation. For status of the meetings prior to attendance, please contact the person listed under FOR FURTHER INFORMATION CONTACT.

ADDRESSES: The meeting will be held at the Fireweed Lodge at 6851 Klawock Hollis Hwy, Klawock, AK 99925. For more information on the meeting or to attend please visit the Web site listed in the SUMMARY section, or contact Nicole McMurren at nmcmurren@fs.fed.us for further details. Written comments may be submitted as described under SUPPLEMENTARY INFORMATION. All comments, including names and addresses when provided, are placed in the record and available for public inspection and copying. The public may inspect comments received at the Tongass National Forest Office. Please call ahead to facilitate entry into the building.

FOR FURTHER INFORMATION CONTACT: Nicole McMurren, Committee Coordinator, by phone at 907-772-5875, or by email at nmcmurren@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to provide advice and recommendations on ecologically, socially, and economically sustainable forest management strategy on the Tongass National Forest with an emphasis on young growth management. Recommendations and advice may directly inform the development of a proposed action for modification of the 2008 Tongass Land Management Plan.

Agenda: On October 8-10, the Committee will: conduct site visits and field trips to inform Committee deliberations, host presentations and discussion on broader economic trends and conditions associated with the transition, and have initial conceptual discussions of substantive issues to identify where there is concurrence and disagreement.

In addition, all agendas include time for oral public comment. Those interested in providing comment orally can register at the meeting. Anyone who would like to bring related matters to the attention of the Committee may file written statements with the Committee's staff before or after the meeting. Written comments may be sent to Jason Anderson, Designated Federal Officer, Tongass National Forest, P.O. Box 309, Petersburg, Alaska 99833; by email to jasonanderson@fs.fed.us, or via facsimile to 907-772-5895. Summary/minutes of the meeting will be posted on the Web site listed above within 45 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: September 18, 2014.
Christopher B. French,
Assistant Director, Ecosystem Managament Coordination.

[FR Doc. 2014-22713 Filed 9-23-14; 8:45 am]

BILLING CODE 3411-15-P